ENVIRONMENTAL PROTECTION AGENCY

Proposed Administrative Agreement for Collection of CERCLA Past Costs

AGENCY: U.S Environmental Protection Agency (U.S. EPA).

ACTION: Notice. Proposed CERCLA 122 Administrative Agreement.

SUMMARY: U.S. EPA is proposing to execute an Administrative Agreement (Agreement) under Section 122 of CERCLA for collection of a percentage of past response costs at the Ultimate Industries, Inc. Site. Respondent has agreed to pay $8,000 out of total past costs of approximately $83,776.10, in return for a covenant not to sue and contribution protection from U.S. EPA. U.S. EPA today is proposing to execute this Agreement because it achieves collection of a reasonable percentage of total Site costs.

DATES: Comments on this proposed settlement must be received by November 21, 2012.

ADDRESSES: Copies of the proposed settlement are available at the following address for review: Ms. Cheryl Allen, Coordinator, Office of Public Affairs, U.S. Environmental Protection Agency, Region V, 77 W. Jackson Boulevard (P-19J), Chicago, Illinois 60604, (312) 353-6196.

It is recommended that you contact Ms. Allen at (312) 353-6196 before visiting the Region 5 Office.

Comments on this proposed settlement should be addressed to: Ms. Cheryl Allen, Coordinator, Office of Public Affairs, U.S. Environmental Protection Agency, Region V, 77 W. Jackson Boulevard (P-19J), Chicago, Illinois 60604, (312) 353-6196.

Please submit an original and three copies, if possible.

FOR FURTHER INFORMATION CONTACT: Ms Cheryl Allen, Office of Public Affairs, at 312 353-6196.

SUPPLEMENTARY INFORMATION: The Site is a closed decorative landscaping rocks and waterfalls manufacturing facility and brick warehouse in a residential neighborhood, located in Sandusky, Erie County, Ohio. The site was discovered by Ohio EPA (OEPA) between 2005 and 2007. During that time OEPA took legal action against Ultimate Industries, Inc. (Ultimate), the owner-operator potentially responsible party. Subsequently, Ultimate discontinued business in June 2004 and the owners, Mr. James Roberts and Mr. Thomas Roberts, filed for personal bankruptcy. Under the proposed Agreement, Citizens Banks, current Settling Party, held a mortgage interest on the business and property. Citizens Bank foreclosed on the mortgage in May 2005 and purchased the Site property in May 2006. In September 2006, Citizens Bank sought a court order to have the Site property sale set aside. A state of Ohio court granted this motion in January 2007.

A 30-day period, beginning on the date of publication, is open pursuant to section 122(i) of CERCLA for comments on the proposed Administrative Agreement. Comments should be sent to Ms. Cheryl Allen of the Office of Public Affairs (P-19J), U.S. Environmental Protection Agency, Region V, 77W. Jackson Boulevard, Chicago, Illinois 60604.

Thomas Turner,
Associate Regional Counsel, United States Environmental Protection Agency.

[FR Doc. 2012-25974 Filed 10-19-12; 8:45 am]

BILLING CODE 6560-50-P